DEPARTMENT OF COMMERCE

Foreign-Trade Zones Board

[B-19-2013]

Foreign-Trade Zone 189—Kent/Ottawa/Muskegon Counties, Michigan; Authorization of Production Activity; Southern Lithoplate, Inc. (Aluminum Printing Plates); Grand Rapids, Michigan

On February 22, 2013, Southern Lithoplate, Inc. submitted a notification of proposed production activity to the Foreign-Trade Zones (FTZ) Board for its facility within FTZ 189—Site 10, in Grand Rapids, Michigan.

The notification was processed in accordance with the regulations of the FTZ Board (15 CFR part 400), including notice in the Federal Register inviting public comment (78 FR 14074, 3-4-2013). The FTZ Board has determined that no further review of the activity is warranted at this time. The production activity described in the notification is authorized, subject to the FTZ Act and the Board's regulations, including Section 400.14.

Dated: June 24, 2013.
Elizabeth Whiteman,
Acting Executive Secretary.

[FR Doc. 2013-15549 Filed 6-27-13; 8:45 am]

BILLING CODE 3510-DS-P